DEPARTMENT OF TRANSPORTATION

Federal Transit Administration

Fiscal Year 2025 Competitive Funding Opportunity: Bus Safety and Accessibility Research Program

AGENCY: Federal Transit Administration (FTA), Department of Transportation (DOT).

ACTION: Notice of funding opportunity (NOFO).

SUMMARY: The Federal Transit Administration (FTA) announces the opportunity to submit applications for the Bus Safety and Accessibility Research Program for up to $10,000,000 under the Public Transportation Innovation Program in multiple fiscal years. The strategic goal for this program is to make existing and new buses safer for their operators and vulnerable road users, and safer and more accessible for their passengers. The Bus Safety and Accessibility Research Program seeks proposals to research standard bus designs, safety innovations and systems, and bus compartments that support these safety and accessibility goals. Additionally, this NOFO will require the development of detailed design specifications and production of a prototype that is available through a retrofit on existing buses and for installation in new buses.

DATES: Complete proposals must be submitted electronically through the grants.gov “APPLY” function by 11:59 p.m. eastern time on January 17, 2025.

Prospective applicants should initiate the process by registering on the grants.gov website promptly to ensure completion of the application process before the submission deadline. Instructions for applying can be found on FTA's website at https://www.transit.dot.gov/ howtoapply and in the “FIND” module of grants.gov. The funding opportunity ID is FTA-2025-003-TRI. Mail and fax submissions will not be accepted.

FOR FURTHER INFORMATION CONTACT: Maria Roell, FTA Office of Research, Demonstration, and Innovation, phone (202) 366-9214, or email: maria.roell@dot.gov.

SUPPLEMENTARY INFORMATION:

Summary Overview of Key Information: FTA Bus Safety and Accessibility Research Competitive Funding Opportunity
Issuing Agency | Federal Transit Administration, U.S. Department of Transportation.
Program Overview | To establish a Bus Safety and Accessibility Research Program under 49 U.S.C. 5312 to research standard designs and prototypes to make existing and new buses safer for their operators and vulnerable road users, and safer and more accessible for their passengers.
Eligible Applicants | Departments, agencies, and instrumentalities of the Government, including Federal laboratories; State and local governmental entities; providers of public transportation; private or non-profit organizations; institutions of higher education; and technical and community colleges.
Eligible Project | Engineering, design, and protype production of a bus or bus components that improve safety of operator and VRUs and increases accessibility for passengers.
Funding Amount | $10,000,000. Additional funds made available prior to project selection may be allocated to eligible projects.
Deadline | January 17, 2025 at 11:59 p.m. Eastern Time.
Cost share | The maximum Federal share of project costs under this program is 80 percent.

Table of Contents

A. Program Description

B. Federal Award Information

C. Eligibility Information

D. Application and Submission Information

E. Application Review Information

F. Federal Award Administration Information

G. Federal Awarding Agency Contacts

H. Other Information

A. Program Description

Under FTA's Public Transportation Innovation Program (49 U.S.C. 5312), FTA may make grants or enter into contracts or cooperative agreements for research, development, demonstration, and deployment projects and evaluation of research and technology of national significance to public transportation. This notice of funding opportunity (NOFO) (Federal Assistance Listing: 20.531) is issued under this authority.

The Bus Safety and Accessibility Research Program addresses critical safety issues and technology opportunities in public transit vehicle design. For this program accessibility refers to the ability of people with disabilities to: independently ascertain if an arriving bus is the one they intend to take; board; pay any fares or scan Paratransit ID cards; identify a seat or wheelchair accessible spot; secure any mobility equipment on the bus; receive any visual or audible stop announcements; identify the correct stop at which they intend to deboard; indicate by pressing buttons or communicating verbally with the driver that they would like to deboard at the next stop; and exit the vehicle without encountering any physical, communication, or attitudinal barriers.

Critical safety issues include rising operator assaults, continued accessibility issues for people with disabilities in and around transit buses, the need to increase operator visibility and minimize blind spots to ensure safety around a bus for passengers, pedestrians, bicyclists, and all who encounter a transit vehicle. It addresses FTA's strategic goal of enhancing the safety of transit fleets. According to safety performance data reported to the National Transit Database (NTD), major event injuries per 100 million vehicle revenue miles are rising with non-rail modes having 273.94 injuries in 2022 and 302.82 injuries in 2023. It is essential that action is taken to reverse this trend.

The strategic goal for this program is to make existing and new buses safer for their operators and vulnerable road users, and safer and more accessible for their passengers. The program objectives include research on bus designs, innovations, and technologies, as well as production of a prototype that is available through a retro fit on existing buses and for installation in new buses. The program's key focus areas are:

• Driver Safety Systems—Changes made to the transit vehicle and technology upgrades that protect the operator and enhance the safety of those outside of the vehicle including VRUs.

• Passenger Safety Systems—Changes made to the transit vehicle and technology upgrades that protect and increase accessibility of the passengers.

All applicants will also be expected to produce results that follow three major principles. These principles represent the values on which FTA will judge whether objectives have been met.

• Partnerships:

○ Recipients will collaborate across multiple industry sectors including all or some of these priority groups:

Transit Vehicle Manufacturers (TVMs)

Transit Agencies

Transit Labor Unions

Disability Organizations

Transit riders

Domestic and International Research Groups

Component Manufacturers

• Widely Implementable:

○ Proposals are encouraged to be innovative but must consider risks to implementation and interoperability to ensure nationwide relevancy and adoption. Proposals should be able to be adopted quickly, on a wide scale.

○ Deliverables should be applicable to current and new 35- and 40-ft or articulated bus models that have passed Altoona testing, comply with all other applicable Federal requirements, and are manufactured by companies eligible to compete for FTA-funded contracts.

• Economic Vitality

○ Recipients will support the U.S. industrial base by complying with Buy America. Recognizing Executive Order 14005, “Ensuring the Future Is Made in All of America by All of America's Workers” (86 FR 7475); proposed projects must support economic vitality at the national and regional level, including advancing domestic industry and promoting domestic development of intellectual property.

Applicants must note how they will incorporate the key focus areas, meet program objectives, and follow program principles. Applications should include performance standards and measures for ensuring the success of each key focus area with a specific, measurable, attainable, relevant, and time-bound task plan. These measures should show minimum performance specifications and a quality assurance surveillance plan to ensure quality. Applicants must show a detailed understanding of the needs and opportunities of this program.

Building on Previous Research

This NOFO seeks innovations that will lead to a safer more accessible bus, as well as a design and production of a prototype that is available through a retrofit on existing buses and for installation in new buses. It builds upon previous research by FTA and the Transit Cooperative Research Program, especially regarding increasing protection for bus operators through secure bus compartments.

The Bus Operator Compartment Redesign Program (BCP) was awarded in 2020 to improve operator and public safety. Key findings included issues with current bus operator compartment designs, such as ineffective barriers, large blind spots, and poor ergonomics for operators. The installation of barriers led to an increased feeling of safety for some operators. FTA also held a listening session in 2023 to receive stakeholder input on bus design including accessibility, safety, and emerging bus technologies. Major themes of the feedback included bus operator health and safety, road safety, accessibility, and passenger compartment enhancements. Resources, including available reports and listening session documentation, are available on the Bus Safety and Accessibility Research Program website (https://www.transit.dot.gov/research-innovation/bus-future-redesign-transit-bus-operator-compartment-improve-safety-operational).

Additionally, the Transportation Cooperative Research Program (TCRP) finalized a bus compartment study titled “Bus Operator Barrier Design: Guidelines and Considerations”. The report on that study, TCRP Report 249, is available for download at the following link: https://nap.nationalacademies.org/catalog/27877/bus-operator-barrier-design-guidelines-and-considerations.

B. Federal Award Information

This notice makes available up to $10,000,000 in Public Transportation Innovation Program (49 U.S.C. 5312) funds for a single cooperative agreement. Only proposals from eligible recipients for eligible activities will be considered for funding.

FTA seeks a project that can begin implementation within two months of award of the cooperative agreement. The maximum period of performance allowed for the work covered by the award should not exceed two years from the date of award. FTA may, at its discretion, provide additional funding under this notice from FTA's Public Transportation Innovation (49 U.S.C. 5312), subject to the availability of funds.

Pre-award authority is subject to FTA approval and is only available for costs incurred after the announcement of project selection on FTA's website.

The project selected under this competition is for research and development and, as such, FTA Research Circular 6100.1E (available at https://www.fta.dot.gov/regulations-and-guidance/fta-circulars/research-technical-assistance-and-training-program) guidance will apply in administering the program.

An applicant whose proposal is selected for funding will enter into a cooperative agreement with FTA, to be administered according to Circular 6100.1E. FTA will have substantial involvement in the administration of the cooperative agreement. FTA's role in the cooperative agreement will include meeting at least quarterly with the recipient and key stakeholders engaged in the program; assistance with outreach on achievement of successful results; review and approval of proposed designs; and participation in key decisions, including if there is a need to redirect or reprioritize project activities, goals, and deliverables.

C. Eligibility Information

Eligible Applicants

Eligible applicants under this notice are:

• Departments, agencies, and instrumentalities of the Federal Government, including Federal laboratories;

• State and local governmental entities, including multi-jurisdictional partnerships, and organizations such as Metropolitan Planning Organizations;

• Providers of public transportation;

• Private for-profit or not-for-profit organizations incorporated in a jurisdiction of the United States; and

• Institutions of higher education and technical and community colleges.

On the application form, eligible applicants are strongly encouraged to identify one or more project partners with a substantial interest and involvement in the project activities or objectives to participate in the implementation of the project, including partners from Minority Serving Institutions.

An application may be submitted in partnership with other eligible entities, including eligible subrecipients, bus manufacturers, or component manufacturers that intend to participate in the implementation of the project. If an application with such a partnership is selected for funding, the competitive selection process will be deemed to satisfy the requirement for a competitive procurement under 49 U.S.C. 5325(a) for the named entities. Applicants are advised that any changes to the proposed partners after the award will require FTA written approval and must be consistent with the scope of the approved project. Post-award changes to vendors will be subject to ordinary procurement standards.

The applicant must be able to carry out the proposed agreement and procurements, if needed, with project partners in compliance with all applicable Federal, State, and local laws.

To be considered eligible, applicants must be able to demonstrate the requisite legal, financial, and technical capabilities to receive and administer Federal funds under this program.

Cost Sharing or Matching

The maximum Federal share of project costs under this program is 80 percent. Applicants may seek a lower Federal contribution. The applicant must provide the non-Federal share of the net project cost in cash or in-kind and must document in its application the source of the non-Federal match. Eligible sources of non-Federal match are detailed in FTA Circular 6100.1E.

Eligible Projects

This notice solicits applications to assess the need and develop public transportation vehicle designs as well as appropriate best practices, guidance, and tools to produce those designs to provide better public transportation services. Proposed tasks and activities must adhere to Federal regulations regarding eligible costs.

FTA has identified a list of elements for projects divided into “required” and “desired.” Required elements are the ones that will be considered for the evaluation criteria. Applicants must demonstrate knowledge or experience in addressing these elements. Additional knowledge or experience with desired elements will yield additional consideration. Applicants are encouraged to add other elements that will further the program goal—especially elements that can be adopted quickly on a wide scale, to be considered in the evaluation. The elements are noted below.

Required:

• All projects must ensure highly reliable and accurate data especially where it can impact the safety of the operator, passengers, or VRU including, but not limited to sensors, vehicle location, battery condition, vehicle maintenance, or other advanced diagnostic indicators.

• Driver Safety Systems:

○ Standardization of the operator compartment: ergonomics of chair/seat, operator barrier. The recipient under this program must produce a functional prototype of the operator compartment improvements.

○ Standardization of design and component placement to eliminate blind spots: A-pillar, mirrors, cameras, fareboxes, etc. Designs should be prescriptive about safety requirements (e.g., mirror placement).

○ VRU safety sensors: Focus on reliable and simplified user interface for the bus operator.

• Passenger Safety Systems:

○ Accessible passenger compartment design: Entry and egress for riders with mobility devices and strollers, consideration of minimizing fare collection footprint.

○ Constraint systems: Ability for riders using a wheelchair to be more safely, efficiently, and, if possible, independently secured in the vehicle.

○ Standardization of emergency call buttons.

Desired:

• Advanced Driver Assistance Systems (ADAS):

○ Lane departure

○ Collision avoidance

○ Pedestrian alerts

D. Application and Submission Information

Address To Request Application

A complete proposal submission consists of four forms and their supporting attachments. The Forms are: (1) Standard Form-424 “Application for Federal Assistance”; (2) SF-424A “Budget Information for Non-Construction Programs”; (3) SF-424B “Assurances for Non-Construction Programs”; and (4) the supplemental form for the Bus Safety and Accessibility Research NOFO. Forms are downloadable from grants.gov or the FTA website at https://www.transit.dot.gov/notices-funding/fiscal-year-2025-bus-safety-and-accessibility-research-notice-funding.

All applications must be submitted electronically through grants.gov by the deadline below. FTA will not accept applications by mail, email, or any other delivery method.

Content and Form of Application Submission

a. Proposal Submission

i. The SF-424 provides basic information about the applicant and the project, including details such as the applicant's name, unique entity identifier (UEI), key contact information, and a summary of the project. The SF-424A form is used to present a detailed budget for the project, ensuring that all financial aspects are accounted for and justified. The SF-424B form outlines the assurance that the applicant agrees to comply with the terms and conditions set forth by the Federal Government.

ii. For the budget, applicants must provide a summary and a high-level overview of estimated activity costs, organized by major cost elements. The budget should clearly differentiate between the Federal funding share and non-Federal share funds, including the value of any in-kind contributions. The budget form must not include previously incurred expenses or costs incurred before the award time. All budget information must be presented using the SF-424A form.

iii. In addition to these standard forms, the proposal must include a supplemental form, a project narrative, and a summary budget narrative. The supplemental form and project overview should be prepared in Microsoft Word, PDF, or another compatible file format and must address all required elements outlined in the notice of funding opportunity (NOFO).

The narrative proposal should be in the format outlined in the “Proposal Preparation and Content” section below. A narrative proposal submission may contain additional supporting documentation as attachments. Once completed, the narrative proposal and any supporting documents must be placed in the “Attachments” section of the SF-424. The applicant must attach the narrative proposal file to its submission in grants.gov to successfully complete the application process. The applicant must respond to all sections of the SF-424 Application for Federal Assistance and the requirements of this Notice. The information in the narrative proposal will be used to determine applicant and project eligibility for the program and to evaluate the proposal against the selection criteria described in this notice. The applicant should carefully review the criteria noted in Section E and ensure its proposal addresses the factors listed.

Failure to submit the information as requested can delay review or disqualify the application.

b. Proposal Preparation and Content

i. Consolidated Budget Form: The Consolidated Budget Form must align with the dollar amount specified in the SF-424 and meet the eligible use requirements outlined in the notice of funding opportunity (NOFO). It includes a budget narrative and a detailed budget spreadsheet, with costs consistent with project scope and allowable under relevant regulations. If indirect costs are included, documentation such as a negotiated indirect cost rate agreement is required.

ii. Allowable costs are determined in accordance with the cost principles identified in 2 CFR part 200, including Subpart E of such regulations, and in 48 CFR part 31 for commercial organizations. The detailed budget spreadsheet must reflect the cost categories that appear on the SF-424A and include itemized calculations for each cost placed under those categories. If indirect costs are included in the proposed budget, the applicant must provide a copy of its approved negotiated indirect cost rate agreement if this rate was negotiated with a cognizant Federal agency or otherwise document those indirect costs consistent with 2 CFR 200.414.

iii. Required Standard Federal Financial Assistance Forms and Documentation: The applicant must submit the SF-424, SF-424A, and SF-424B forms, along with any Negotiated Indirect Cost Rate Agreement and Data Management Plan.

iv. The SF-424 and supplemental form prompt applicants for essential information such as applicant details, project description, and budget breakdown. This includes a detailed project budget specifying Federal and local shares, funding sources, and matching funds. Additionally, it covers descriptions of project benefits, implementation strategy, scalability, and a detailed project timeline.

v. The project overview, submitted as a one-page document, should include a header with project title and lead applicant, along with brief description of innovation, benefits, team and partners, and approach. The format aligns with templates available on grants.gov and the FTA web page.

vi. Budget Narrative: The budget narrative provides detailed explanations of proposed costs, aligning with the detailed budget spreadsheet and only including allowable expenses within the project scope. It should describe each cost item and its basis, including the Federal share, non-Federal share, and any in-kind contributions. Any indirect costs must be accompanied by relevant documentation. The narrative also explains leveraged resources and ensures consistency with SF-424 and SF-424A forms.

vii. Grant Funds, Sources and Uses of Project Funds- Project budgets should show how different funding sources will share in each activity and present the data in dollars and percentages. The budget should identify other Federal funds the applicant is applying for, has been awarded, or intends to use. Funding sources should be grouped into three categories: non-Federal, current application, and other Federal with specific amounts for each funding source.

The applicant must submit one electronic file for Proposals in a Microsoft Word, PDF, or compatible file format, double-spaced using Times New Roman, 12-point font. The proposal must contain the following components and adhere to the specified maximum lengths:

(1) Cover Sheet (not to exceed 1 page): The cover sheet must include the entity submitting the proposal, principal's name, title, and contact information (e.g., address, office and mobile phone, and email). The cover sheet must also include name and contact information for the entity's point of contact for all cooperative agreement administrative activities (if different from principal).

(2) Abstract (not to exceed 1 page): The Abstract must include background, purpose, methodology, intended outputs, outcomes, impacts, and plan for accomplishing the goals and objectives as outlined in this Notice.

(3) Table of Contents (not to exceed 1 page): The Table of Contents must list each section of the proposal (including Appendices) by title and page number.

(4) Project Budget (not to exceed 5 pages): Project budgets should show how different funding sources will share in each activity and present those data in dollars and percentages. The budget should identify other Federal funds the applicant is applying for or has been awarded, if any, that the applicant intends to use. The proposed project budget must account for multiple years and outline the total cost of all services and products, including salaries and fringe benefits, supplies, travel, equipment, and proposed contractual arrangements (e.g., subcontracts, consultant services) and how these estimated costs are connected to the project scope.

(5) Project Work Plan (not to exceed 10 pages total): The proposed project work plan must include the following information:

a. Methodology—Provide a methodology for addressing the goals described above and under Section A of this Notice.

b. Statement of Work—Provide proposed work tasks for the project and how the goals will be accomplished with a detailed set of objectives and activities. Include the tasks for proposed activities, resources, milestones, with a timeline that also notes critical path milestones. Note in the proposal how risk management related to barriers to deployment will be addressed. Please also note a sustainability strategy for how this work will be maintained in the future.

c. Staffing Plan—Describe the approach for managing the project team, including the distribution of responsibilities among project partners, and what activities each project team member will perform.

d. Coordination with FTA—Identify the plan for coordinating the project team's activities and deliverables with the FTA's Research office including suggesting a methodology for a regular review of research results and a process to select research ready for deployment.

e. Research and Data Collection—Identify activities and the plan for electronic collection, maintenance, storage, and dissemination of data for use by the project team, stakeholders, FTA, and other customers.

f. Communication Plan—Provide a plan for communication of project results. The plan should identify innovative communication strategies including, but not limited to, the following: webinars, in-person presentations at industry events, social media (e.g., Facebook, Twitter, YouTube), text alerts, email, website publication, and toll-free telephone numbers.

g. Performance Measures—Identify multiple performance measures that FTA should use to assess the Program's overall effectiveness.

h. Deliverables—Provide a list of proposed deliverables (e.g., guides, plans, reports, services, prototypes, etc.). Include quarterly reports, financial forms, guidance documents, and final reports to be submitted to FTA.

(6) Staff Qualifications (not to exceed 5 pages total):

a. Organizational Capacity—Provide a narrative that briefly describes the structure of the applicant, including its history and experience in R&D, prototype construction, technology transfer, and the national deployment of research findings, preferably in the transportation sector. Include a narrative of the proposer's understanding of the activities in this solicitation and its responsibility for the data collection and results deployment called for in this Notice. Include the proposer's organization chart.

b. Project Team Structure—Provide a narrative that briefly describes the structure and makeup of the project team. Provide resumes or biographies of key staff to highlight the relevant skills and experience of the proposed team. The applicant is encouraged to identify in its proposal one or more project partners with a substantial interest and involvement in the project activities or objectives.

Applications submitted in response to this NOFO become the records of FTA and may be subject to Freedom of Information Act requests. Please segregate and clearly mark any portions of the application containing confidential or privileged trade secrets or commercial or financial information. FTA may share application information within the Department of Transportation or with other Federal agencies if FTA determines that sharing is relevant to the respective program's objectives.

Unique Entity Identifier and System for Award Management (SAM)

Each applicant is required to: (1) be registered in SAM.GOV before submitting an application; (2) provide a valid unique entity identifier in its application; and (3) maintain an active SAM.GOV registration with current information at all times during which the applicant has an active Federal award or an application or plan under consideration by FTA. FTA may not make an award until the applicant has complied with all applicable unique entity identifier and SAM.GOV requirements. If an applicant has not fully complied with the requirements by the time FTA is ready to make an award, FTA may determine that the applicant is not qualified to receive an award and use that determination as a basis for making a Federal award to another applicant. These requirements do not apply if the applicant has an exception approved by FTA or the U.S. Office of Management and Budget under 2 CFR 25.110(c) or (d). SAM registration takes approximately 3-5 business days, but FTA recommends allowing ample time, up to several weeks, for completion of all steps. For additional information on obtaining a unique entity identifier, please visit https://www.sam.gov.

Submission Dates and Times

Project proposals must be submitted electronically through grants.gov by 11:59 p.m. Eastern time on January 17, 2025. Grants.Gov attaches a time stamp to each application at the time of submission. Mail and fax submissions will not be accepted.

FTA urges applicants to submit applications at least 72 hours prior to the due date to allow time to correct any problems that may have caused either grants.gov or FTA systems to reject the submission. Grants.gov attaches a time stamp to each application at the time of submission. Proposals submitted after the deadline will be considered only if lateness was due to extraordinary circumstances not under the applicant's control. Grants.gov scheduled maintenance and outage times are announced in advance on the grants.gov website. Deadlines will not be extended due to scheduled website maintenance.

Within 48 hours after submitting an electronic application, the applicant should receive an email message from grants.gov with confirmation of successful transmission to grants.gov. If a notice of failed validation or incomplete materials is received, the applicant must address the reason for the failed validation, as described in the email notice, and resubmit before the submission deadline. If making a resubmission for any reason, include all original attachments regardless of which attachments were updated, and check the box on the supplemental form indicating this is a resubmission.

Applicants are encouraged to begin the registration process on the grants.gov site well before the submission deadline. Registration is a multi-step process, which may take several weeks or months to complete before an application can be submitted. Registered applicants may still be required to take steps to keep their registration up to date before submissions can be made successfully: (1) registration in sam.gov is renewed annually, and (2) persons making submissions on behalf of the Authorized Organization Representative (AOR) must be authorized in grants.gov by the AOR to submit.

Funding Restrictions

Funds available under this NOFO cannot be used to reimburse applicants for otherwise eligible expenses incurred prior to FTA issuing pre-award authority for the selected applicant.

Refer to section C.3., Eligible Projects, for information on activities that are allowable. Allowable direct and indirect expenses must be consistent with the Governmentwide Uniform Administrative Requirements and Cost Principles (2 CFR part 200) and the current version of FTA Circular 5010.

E. Application Review Information

Criteria

Applications will be evaluated on the responses provided in the supplemental form and the attached program summary and statement of objectives. Additional information may be provided to support the responses. All additional documentation, including the file names, must be directly referenced on the supplemental form. The applicant must complete the supplemental form and the program attachments. FTA will evaluate proposals based on the criteria described in this notice.

a. Demonstration of Transit Vehicle Design Experience

The application should provide evidence of the applicant's experience developing transit vehicle designs or manufacturing transit vehicles or their component parts. The proposal should detail the applicant's knowledge of general transit vehicle components, subsystems and systems, functionalities, standards, general experience, and knowledge of transit vehicle design development and testing, including awareness of potential barriers or challenges to production.

b. Demonstration of Understanding in Emerging Transit Needs and Demands

The application should clearly demonstrate a thorough understanding of existing conditions in a wide range of topics and areas in transit. This includes the required and desired design elements listed in the Section A. Program Description. It may also include understanding of industry safety and the safe systems approach, mobility, and operation needs; accessibility and usability of systems to comply with the Americans with Disabilities Act and Title VI of the Civil Rights Act; process improvement in training, maintenance, and procurement; or work experience or familiarity with new and emerging safety technologies.

c. Key Personnel Experience and Organizational Capacity

The application should note the individuals who will be involved in the project, specifically identifying its proposed key personnel. The application should include details of relevant experience of leadership in managing multi-stakeholder projects and the technical expertise of the project team. The application should explain how the applicant will ensure the key personnel will have enough time and expertise to carry out project objectives to assess data, coordinate with stakeholders, develop designs, and oversee prototype productions in the program duration.

d. Program Implementation Strategy

The application will be evaluated on an overall program implementation strategy, including proposed workplan tasks, schedule, and interim deliverables. In assessing whether the proposed implementation plans are reasonable and complete, FTA will review the proposed program work plan, including all necessary milestones and the overall program timeline. FTA will consider the risks to program implementation and the extent to which the program implementation strategy addresses these risks. Potential risks include the capacity to implement the program within two years after receiving an award and the ability to complete the program. FTA will also consider if the program's implementation addresses how the project will support USDOT's data collection, sharing policies, and meeting the data management plan requirement (see below).

e. Technical, Legal, and Financial Capacity

The applicant must demonstrate the financial and organizational capacity and managerial experience to oversee and implement this program successfully. FTA may review relevant oversight assessments and records to determine whether any outstanding legal, technical, or financial issues with the applicant would affect the outcome of the proposed program. An applicant with outstanding legal, technical, or financial compliance issues from an FTA compliance review or Federal Transit Administration grant-related Single Audit finding must explain how corrective actions will mitigate negative impacts on the proposed program. For applications that include named project partners, FTA will also consider the proposed partners' technical, legal, and financial capacity.

f. Planning and Partnerships

The applicant must identify all program partners and their specific roles. FTA will evaluate the extent to which the program contains strong, cohesive partnerships and the collaboration necessary to implement the proposed program successfully. The application should describe how program partners will work collaboratively and should show evidence of strong commitment and cooperation among program partners through letters of support, memorandums of understanding, or agreements among the partners. For a proposed program that will require formal coordination, approvals, or permits from government agencies or program partners, the applicant must demonstrate coordination with these organizations and their support for the program.

g. Financial Commitment

The applicant must identify the source of the non-Federal cost share and describe whether such funds are currently available for the program or will need to be secured if the program is selected for funding. FTA will consider the availability of the non-Federal cost share as evidence of the applicant's financial commitment to the program. Additional consideration may be given to those programs with a higher non-Federal share of costs and for which non-Federal funds have already been made available or reserved. The applicant should submit evidence of the availability of funds for the program, for example, by including a board resolution, a letter of support from the State, a budget document highlighting the line item or section committing funds to the proposed program, or other documentation of the source of non-Federal funds.

Review and Selection Process

An FTA technical evaluation committee will evaluate proposals based on the published evaluation criteria and rating guidance specific to this NOFO. Members of the technical evaluation committee may request additional information from applicants if necessary. Based on the technical evaluation committee review, the FTA Administrator will determine the final selection for program funding.

Performance and Integrity

Prior to making an award, FTA is required to review and consider any information about the applicant that is in the Federal Awardee Performance and Integrity Information System (FAPIIS) accessible through SAM.GOV. An applicant may review and comment on any information about itself that a Federal awarding agency previously entered. FTA will consider any comments by the applicant, in addition to the other information in the designated integrity and performance system, in making a judgment about the applicant's integrity, business ethics, and record of performance under Federal awards when completing the review of risk posed by applicants as described in the Office of Management and Budget's Uniform Requirements for Federal Awards (2 CFR 200.206).

F. Federal Award Administration Information

Federal Award Notices

FTA will notify the successful applicant and may announce the selection on its website, https://www.transit.dot.gov. Following notification, the successful applicant will be required to submit an application through the FTA Transit Award Management System (TrAMS).

Administrative and National Policy Requirements

a. Pre-Award Authority

At the time the program selection is announced, FTA may extend pre-award authority for the selected program. There is no blanket pre-award authority before the announcement. FTA will issue specific guidance to the recipient regarding pre-award authority at the time of selection. FTA does not consider requests for pre-award authority for these competitive funds until after a program recipient is selected, and additional Federal requirements must be met before costs are incurred. For more information about FTA's policy on pre-award authority, please see the most recent Apportionments, Allocations, and Program Information Notice at https://www.transit.dot.gov.

b. Cooperative Agreement Requirements

If selected, the recipient will apply for a cooperative agreement through FTA's Transit Award Management System (TrAMS). The successful applicant must be prepared to submit a final statement of work and complete the application in TrAMS within 60 days of notification of selection. The recipient must follow the requirements of FTA Circular 6100.1E. Technical assistance regarding these requirements is available from FTA.

c. Data Management Plan

FTA seeks to improve public transportation for America's communities by sharing digital data or source code collected or developed through its research with the public. This allows research organizations, public transportation agencies, State DOTs, and other stakeholders to learn from and expand upon the insights developed from FTA-funded research.

An award made pursuant to this Notice will be subject to the latest version of FTA's Master Agreement (available at https://www.transit.dot.gov/funding/granteeresources/sample-fta-agreements/fta-grant-agreements), including Section 17 Patent Rights and Section 18 Rights in Data and Copyrights. All work conducted under this award must follow the Department data policies outlined in the USDOT Public Access Plan at: https://ntl.bts.gov/public-access/how-comply. The recipient is required to include these obligations in any sub-awards or other related funding agreements.

Public Data Access requirements include developing a Data Management Plan (DMP) and submitting the DMP for FTA review. A DMP is a document that describes how the recipient plans to handle digital datasets, software, or code generated over the course of a research project pursuant to Federal and Departmental requirements. A DMP must be provided as a condition of receiving FTA funds under the Section 5312 Research Program and should adequately identify: (1) The data to be collected; (2) how the data will further the goals of this effort; (3) how the data will be made accessible; and (4) how the data will be stored. DMPs can be updated over time if the scope of the project or the type of data that will be collected changes. FTA staff is available to assist recipients with complying with public data access requirements.

FTA expects recipients to remove confidential business information (CBI) and Personally Identifiable Information (PII) before providing public access to project data. Recipients must ensure the appropriate data are accessible to FTA or the public for a minimum of five years after the award's performance period expires.

Recipients must make available to the Department copies of all work developed in performance of a project funded under this notice, including but not limited to software and data. Data rights must be in accordance with 2 CFR 200.315, Intangible Property, and the latest version of FTA's Master Agreement, available at https://www.transit.dot.gov/sites/fta.dot.gov/files/2024-05/FTA-Master-Agreement-v31-05-02-2024.pdf.

d. Buy America and Domestic Preferences for Infrastructure Projects

As expressed in Executive Order 14005, Ensuring the Future Is Made in All of America by All of America's Workers (86 FR 7475), the Executive Branch should maximize, consistent with law, the use of goods, products, and materials produced in, and services offered in, the United States. Therefore, all procurements must comply with FTA's Buy America requirements (49 U.S.C. 5323(j) and 49 CFR part 661), which require that all iron, steel, and manufactured products, including rolling stock, be produced in the United States. In addition, any award must comply with the Build America, Buy America Act (BABA) (Pub. L. 117-58, sections 70901-70927). BABA provides that none of the funds provided under an award made pursuant to this notice may be used for a project unless all iron, steel, manufactured products, and construction materials are produced in the United States. FTA's Buy America requirements are consistent with BABA requirements for iron, steel, and manufactured products.

Any proposal that will require a waiver of any domestic preference standard must identify the items for which a waiver will be sought in the application. Applicants should not proceed with the expectation that waivers will be granted.

e. Americans With Disabilities Act

All FTA recipients must comply with Department of Transportation regulations implementing the transportation provisions of the Americans with Disabilities Act of 1990 (ADA), codified at 49 CFR parts 27, 37, 38, and 39. Compliance is required regardless of the receipt of Federal funding, but is also a condition of eligibility for Federal funding. All vehicles and vehicle components must comply with the standards for accessibility for buses and vans found in 49 CFR part 38. Additionally, recipients for this program should account for the updated standards issued by the U.S. Access Board at 36 CFR part 1192.

Of particular note is the requirement under 49 CFR 37.165(f), which requires personnel to assist individuals with disabilities with the use of securement systems, ramps and lifts, and requires personnel to leave their seats to provide such assistance if necessary. It will therefore be important to ensure that any bus driver compartments not only do not interfere with the boarding and disembarking of persons with disabilities, including wheelchair users, but that they not do so when in the open or closed position. Designs for autonomous vehicles should presume the presence of on-board personnel.

f. Disadvantaged Business Enterprise

FTA requires that its recipients receiving planning, capital, or operating assistance that will award prime contracts exceeding $670,000 in FTA funds in a Federal fiscal year comply with the U.S. Department of Transportation's Disadvantaged Business Enterprise (DBE) program regulations (49 CFR part 26). If an applicant also receives FTA planning, capital, or operating assistance, it should expect to include any funds awarded, excluding those to be used for vehicle procurements, in setting its overall DBE goal. Note, however, that projects, including vehicle procurements, remain subject to the DBE program regulations.

f. Rehabilitation Act

The U.S. Department of Labor's Office of Federal Contract Compliance Programs (OFCCP) is charged with enforcing Executive Order 11246, section 503 of the Rehabilitation Act of 1973, and the Vietnam Era Veterans' Readjustment Assistance Act of 1974. OFCCP has a Mega Construction Project Program through which it engages with project sponsors as early as the design phase to help promote compliance with non-discrimination and affirmative action obligations. OFCCP will identify projects that receive an award under this notice and are required to participate in OFCCP's Mega Construction Project Program from a wide range of Federally assisted projects over which OFCCP has jurisdiction and that have a project cost above $35 million. Under that partnership, OFCCP will ask these project sponsors to make clear to prime contractors in the pre-bid phase that project sponsor's award terms will require their participation in the Mega Construction Project Program. Additional information on how OFCCP makes their selections for participation in the Mega Construction Project Program is outlined under “Scheduling” on the Department of Labor website: https://www.dol.gov/agencies/ofccp/faqs/construction-compliance.

g. Automated Vehicle Safety

If an applicant is proposing to implement automated vehicles or other innovative motor vehicle technology, the application should demonstrate that all vehicles will comply with applicable safety requirements, including those administered by the National Highway Traffic Safety Administration (NHTSA) and the Federal Motor Carrier Safety Administration (FMCSA). Specifically, the application should show that vehicles acquired for the proposed project will comply with applicable Federal Motor Vehicle Safety Standards (FMVSS) and Federal Motor Carrier Safety Regulations (FMCSR). If the vehicles may not comply, the application should either (1) show that the vehicles and their proposed operations are within the scope of an exemption or waiver that has already been granted by NHTSA, FMCSA, or both agencies or (2) directly address whether the project will require exemptions or waivers from the FMVSS, FMCSR, or any other regulation and, if the project will require exemptions or waivers, present a plan for obtaining them. If applicable, FTA will also consider the extent to which the application presents a plan to address workforce impacts of automated vehicles or other innovative motor vehicle technology.

h. Standard Assurances

If an applicant receives an award, the applicant must ensure that it will comply with all applicable Federal statutes, regulations, executive orders, directives, FTA circulars, and other Federal administrative requirements in carrying out any project supported by the FTA award. The applicant acknowledges that it will be under a continuing obligation to comply with the terms and conditions of the agreement issued for its project with FTA. The applicant understands that Federal laws, regulations, policies, and administrative practices might be modified from time to time and may affect the implementation of the project. The most recent Federal requirements will apply to the project unless FTA issues a written determination otherwise. The applicant must submit the most recent FTA Certifications and Assurances before receiving an award if it does not have current certifications on file.

i. External Communications

The recipient must communicate with the FTA Program Manager prior to engaging in any external communications regarding the program. This includes any work developing news or magazine stories with media organizations, including print, video, online, or otherwise. Additionally, the FTA program manager must be notified and approve if project information, including results and metrics, will be shared during a webinar or other presentation open to the public by the recipient or another organization. The recipient should consult with the FTA Program Manager at the beginning of the agreement to discuss and plan any external communications about the program.

j. Intellectual Property Provisions

Any intellectual property developed as a part of this solicitation will be subject to provisions of 2 CFR 200.315 Intangible Property and FTA's Master Agreement related to patent rights and rights in data and copyrights and may be disseminated to the public for its use.

k. FTA Funds Reimbursement

If selected, the recipient must disburse funds from its cooperative agreement using DOT's Delphi system. Drawdowns using ECHO are prohibited. FTA staff are available to assist recipient with gaining access and using the Delphi system.

l. Termination for Failure To Make Progress on an Award

After providing written notice to the recipient of a project selected for funding, FTA may withdraw its support for the selected project (if a cooperative agreement has not yet been awarded) or suspend or terminate all or any part of the Federal assistance for the award if the recipient has failed to make reasonable progress implementing the project. FTA may withdraw its support for a project or terminate an award agreement if, among other reasons:

1. A recipient has not completed its application for funding in TrAMS within 60 days of the date FTA announces project selection.

2. A recipient has not begun its demonstration project within one year after funding was awarded in TrAMS.

3. A recipient has not delivered a project evaluation to FTA within one year of completing its demonstration project.

4. The proposed activities are no longer needed, or the recipient has violated the terms of FTA's Annual Agreement.

m. Performance and Program Evaluation

As a condition of grant award, grant recipients may be required to participate in an evaluation undertaken by DOT or another agency or partner. The evaluation may take different forms such as an implementation assessment across grant recipients, an impact and/or outcomes analysis of all or selected sites within or across grant recipients, or a benefit/cost analysis or assessment of return on investment. DOT may require applicants to collect data elements to aid the evaluation and/or use information available through other reporting. As a part of the evaluation, as a condition of award, grant recipients must agree to: (1) make records available to the evaluation contractor or DOT staff; (2) provide access to program records, and any other relevant documents to calculate costs and benefits; (3) in the case of an impact analysis, facilitate the access to relevant information as requested; and (4) follow evaluation procedures as specified by the evaluation contractor or DOT staff.

Recipients and subrecipients are also encouraged to incorporate program evaluation including associated data collection activities from the outset of their program design and implementation to meaningfully document and measure their progress towards meeting an agency priority goal(s). Title I of the Foundations for Evidence-Based Policymaking Act of 2018 (Evidence Act), (Pub. L. 115-435) urges Federal awarding agencies and Federal assistance recipients and subrecipients to use program evaluation as a critical tool to learn, to improve equitable delivery, and to elevate program service and delivery across the program lifecycle. Evaluation means “an assessment using systematic data collection and analysis of one or more programs, policies, and organizations intended to assess their effectiveness and efficiency.” 5 U.S.C. 311. Credible program evaluation activities are implemented with relevance and utility, rigor, independence and objectivity, transparency, and ethics (OMB Circular A-11, part 6 section 290).

Reporting and Payment

Post-award reporting requirements include the electronic submission of Federal Financial Reports and Milestone Progress Reports in TrAMS quarterly. Documentation is required for payment. Additional reporting may be required specific to the program prescribed in this Notice, and the recipient may be expected to participate in events or peer networks related to the goals and objectives of the program. The Federal Financial Accountability and Transparency Act (FFATA) requires data entry at the FFATA Sub Award Reporting System (https://www.FSRS.gov) for all sub-awards and sub-contracts issued for $30,000 or more, as well as addressing executive compensation for both award recipients and sub-award organizations. The recipient will be required to disburse via Delphi and E-invoicing.

The successful applicant should include any goals, targets, and indicators referenced in its application in the Executive Summary of the TrAMS application.

As part of completing the annual certifications and assurances required of FTA grant recipients, a successful applicant must report on the suspension or debarment status of itself and its principals.

If the recipient's active grants, cooperative agreements, and procurement contracts from all Federal awarding agencies exceed $10,000,000 for any period during the period of performance of an award made pursuant to this Notice, the recipient must comply with the Recipient Integrity and Performance Matters reporting requirements described in appendix XII to 2 CFR part 200.

G. Federal Awarding Agency Contacts

For further information concerning this notice, please contact the Bus Safety and Accessibility Research Program Manager, Maria Roell, in the FTA Office of Infrastructure, Safety and Asset Innovation, by email at maria.roell@dot.gov. A TDD is available for individuals who are deaf or hard of hearing at 800-877-8339. In addition, FTA will post answers to questions and requests for clarifications on FTA's website at https://www.transit.dot.gov/notices-funding/fiscal-year-2025-bus-safety-and-accessibility-research-notice-funding.

To ensure applicants receive accurate information about eligibility or the program, applicants are encouraged to contact FTA directly with questions rather than through intermediaries or third parties. FTA staff may also conduct briefings on the competitive applications selection and award process upon request.

For issues with grants.gov, please contact grants.gov by phone at 1-800-518-4726 or by email at support@grants.gov.

H. Other Information

This program is not subject to Executive Order 12372, “Intergovernmental Review of Federal Programs.” There are resources available that may help in responding to this Notice, as listed below. The FTA website has information about FTA, application forms, statutory and administrative requirements, etc. Applicants are encouraged to use the FTA link provided and other information, as listed, as much as is needed.

Veronica Vanterpool,
Deputy Administrator.

[FR Doc. 2024-26835 Filed 11-15-24; 8:45 am]

BILLING CODE 4910-57-P